DEPARTMENT OF AGRICULTURE

Forest Service

Williamette Province Advisory Committee

AGENCY: Forest Service, USDA.

ACTION: Notice of meeting.

SUMMARY: The Willamette Province Advisory Committee (PAC) will meet in Salem, Oregon. The purpose of the meeting is to discuss issues pertinent to the implementation of the Northwest Forest Plan (NFP) and to provide advice to Federal land managers in the Province. The specific topics to be covered at the meeting include the results of the 2003 Province Implementation monitoring and the Settlement Agreement of the lawsuit American Forest Resource Council v. BLM, involving the Northwest Forest Plan.

DATES: The meeting will be held September 18, 2003.

ADDRESSES: The meeting will be held at the Salem District Office of the Bureau of Land Management, 1717 Fabry Road, Salem, Oregon. Send written comments to Neal Forrester, Williamette Province Advisory Committee, c/o Willamette National Forest, P.O. Box 10607, Eugene, Oregon (541) 225-6436 or electronically to nforrester@fs.fed.us.

FOR FURTHER INFORMATION CONTACT: Neal Forrester, Willamette National Forest, (541) 225-6436.

SUPPLEMENTARY INFORMATION: The meeting is open to the public. Committee discussion is limited to PAC members. However persons who wish to bring matters to the attention of the Committee may file written statements with the PAC staff before or after the meeting. A public forum will be provided and individuals will have the opportunity to addess the PAC. Oral comments will be limited to three minutes.

Dated: August 14, 2003.
Dallas J. Emch,
Forest Supervisor, Willamette National Forest.

[FR Doc. 03-21262 Filed 8-19-03; 8:45 am]

BILLING CODE 3410-11-M